DEPARTMENT OF HEALTH AND HUMAN SERVICES

Centers for Medicare & Medicaid Services

42 CFR Part 480

Acquisition, Protection, and Disclosure of Quality Improvement Organization Information

CFR Correction

In Title 42 of the Code of Federal Regulations, Parts 430 to 481, revised as of October 1, 2011, on page 538, the heading for part 480 is revised to read as follows:

PART 480—ACQUISITION, PROTECTION, AND DISCLOSURE OF QUALITY IMPROVEMENT ORGANIZATION INFORMATION

[FR Doc. 2012-8184 Filed 4-3-12; 8:45 am]

BILLING CODE 1505-01-D